DEPARTMENT OF THE INTERIOR

National Park Service

[2253-665]

Extension of Time for Inventory

AGENCY: National Park Service, Interior.

ACTION: Notice.

The Native American Graves Protection and Repatriation Act (NAGPRA) requires museums and Federal agencies that receive Federal funds to complete item-by-item inventories of Native American human remains and associated funerary objects in their possession or control. Recent regulations (43 CFR 10.13) provide deadlines for completing inventories of human remains and associated funerary objects received after the initial 1995 deadline, as well as for situations in which human remains and associated funerary objects are culturally affiliated with a newly Federally recognized Indian Tribe or an institution receives Federal funds for the first time.

Section 5 of the statute (25 U.S.C. 3003(c)) authorizes the Secretary of the Interior to extend the inventory time requirements for museums that have made a good faith effort to complete their inventories by the regulatory deadline. The deadline for inventory completion has been extended for The Colorado Historical Society. The requested extension is granted to November 2, 2011.

Dated: April 19, 2011.
Will Shafroth,
Acting Assistant Secretary for Fish and Wildlife and Parks.

[FR Doc. 2011-13396 Filed 6-8-11; 8:45 am]

BILLING CODE 4312-50-M